FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Martinez Cargo Express, Corp., 8026 Sunport Drive, Unit 301, 302, Orlando, FL 32809. Officer: Jose R. Martinez, President (Qualifying Individual).

Universal Concord, Inc., 141 South Ave., Ste. 202, Fanwood, NJ 07023. Officer: Minmin Wang, President (Qualifying Individual).

Fax Cargo Corporation, 10913 NW 30 Street, Ste. 107, Doral, FL 33172. Officer: Yudith B. Perez, Traffic and Operations (Qualifying Individual).

Non-Vessel Operating Common Carrier and Ocean Freight Forwarder Transportation Intermediary Applicants

FedEx Trade Networks Transport & Brokerage, Inc., 128 Dearborn Street, Buffalo, NY 14207. Officer: Leman G. Brown, Jr., Asst. Secretary (Qualifying Individual).

Continental Shipping Inc., 11950 New Kings Road, Jacksonville, FL 32219. Officer: Bina P. Desai, Vice President (Qualifying Individual).

A. Naimoli Freight Forwarding, Inc. dba ARJE Logistics, 105-08 93rd Street, Ozone Park, NY 11417. Officer: Anthony Naimoli, President (Qualifying Individual).

Dated: July 11, 2008.
Karen V. Gregory,
Assistant Secretary.

[FR Doc. E8-16255 Filed 7-15-08; 8:45 am]

BILLING CODE 6730-01-P